DEPARTMENT OF THE INTERIOR

Bureau of Land Management

[ID-010-5700-10; IDI-33300]

Classification of Lands for Recreation and Public Purposes, Elmore County, Idaho

AGENCY: Bureau of Land Management, Interior.

ACTION: Notice of realty action.

SUMMARY: The following described public lands in Elmore County, Idaho, have been examined and determined to be suitable for classification for lease or conveyance to Elmore County, under the provisions of the Recreation and Public Purposes (R&PP) Act of June 14, 1926, as amended (43 U.S.C. 869 et seq.):

Boise Meridian, Idaho

T. 2 N., R. 1 E., section 19: NE¼NE¼NE¼SW¼.

Aggregating 2.5 acres, more or less.

DATES: Interested parties may submit comments through August 28, 2000, to the Bruneau Field Manager.

ADDRESSES: Comments should be sent to Jenna Whitlock, Bruneau Field Manager, Bureau of Land Management, Lower Snake River District, 3948 Development Ave., Boise, Idaho 83705.

FOR FURTHER INFORMATION CONTACT: Mike Austin, Bruneau Realty Specialist at (208) 384-3339.

SUPPLEMENTARY INFORMATION: Elmore County has filed application to lease and/or purchase the above described public lands under the authority of the R&PP Act. The proposed use of the land is for a community center and shed to house equipment necessary to maintain snowmobile trails for recreational use by the public. The lands will be developed and managed for community and recreational purposes, as described in the development plan submitted by Elmore County on January 15, 2000. We have determined that the lease or conveyance of the lands for the proposed community center and shed are in the public interest.

Publication of this notice in the Federal Register will segregate the above described public lands from the operation of the public land laws and the mining laws, except for mineral leasing and leasing or conveyance under the R&PP Act. In the absence of any adverse comments, the classification will become effective September 11, 2000. The segregative effect will automatically expire on January 14, 2002.

Comments: Comments may address whether the lands being classified are physically suited for the proposal, whether the use will maximize the future use or uses of the land, whether the use is consistent with local planning or zoning, or if the use is consistent with State and Federal programs. Comments may also address the specific use proposed in the application or plan of development, whether the BLM followed proper administrative procedures in reaching the decision to lease the land under the R&PP Act, or any other factor not directly related to the suitability of the land for the stated purpose. Adverse comments will be reviewed by the District Manager.

The lease of the lands will not occur until after the classification becomes effective, and will be subject to the following terms, conditions, and reservations:

1. Provisions of the R&PP Act and to all applicable regulations of the Secretary of the Interior.

2. All valid existing rights documented on the official public land records at the time of lease/patent issuance.

3. All minerals shall be reserved to the United States, together with the right to prospect for, mine, and remove the minerals.

4. Any other reservations that the authorized officer determines appropriate to ensure public access and proper management of Federal lands and interests therein.

Dated: July 6, 2000.
Jenna Whitlock,
Bruneau Field Manager.

[FR Doc. 00-17577 Filed 7-11-00; 8:45 am]

BILLING CODE 4310-GG-P